DEPARTMENT OF AGRICULTURE

Animal and Plant Health Inspection Service

[Docket No. APHIS-2012-0012]

Secretary's Advisory Committee on Animal Health; Intent To Renew and Request for Nominations

AGENCY: Animal and Plant Health Inspection Service, USDA.

ACTION: Notice of intent and request for nominations.

SUMMARY: We are giving notice that the Secretary of Agriculture intends to renew the Secretary's Advisory Committee on Animal Health (Committee). The Secretary has determined that the Committee is necessary and in the public interest. We are also giving notice that the Secretary is soliciting nominations for membership for this Committee.

DATES: Consideration will be given to nominations received on or before September 10, 2012.

FOR FURTHER INFORMATION CONTACT: Mrs. R.J. Cabrera, Designated Federal Official, VS, APHIS, 4700 River Road Unit 35, Riverdale, MD 20737-1231; (301) 8513478 (or 800-877-8339 for the hearing impaired), email: rj.cabrera@aphis.usda.gov.

ADDRESSES: Nomination packages may be sent by postal mail or commercial delivery to The Honorable Thomas Vilsack, Secretary, U.S. Department of Agriculture, 1400 Independence Avenue SW., Washington, DC 20250, Attn: Secretary's Advisory Committee on Animal Health. Nomination packages may also be faxed to (301) 734-3121.

SUPPLEMENTARY INFORMATION: Pursuant to the Federal Advisory Committee Act (FACA, 5 U.S.C. App.), notice is hereby given that the Secretary of Agriculture intends to renew the Secretary's Advisory Committee on Animal Health (the Committee) for 2 years.

The Committee advises the Secretary on strategies, policies, and programs to prevent, control, or eradicate animal diseases. The Committee considers agricultural initiatives of national scope and significance and advises on matters of public health, conservation of national resources, stability of livestock economies, livestock disease management and traceability strategies, prioritizing animal health imperatives, and other related aspects of agriculture. The Committee Chairperson and Vice Chairperson are elected by the Committee from among its members.

A request for nominations for membership was published ¹ in the Federal Register on May 24, 2012 (77 FR 30993, Docket No. APHIS-2012-0012). In this notice, we are once again soliciting nominations from interested organizations and individuals. An organization may nominate individuals from within or outside its membership; alternatively, an individual may nominate herself or himself. Nomination packages should include a nomination form along with a cover letter or resume that documents the nominee's experience. Nomination forms are available on the Internet at http://www.ocio.usda.gov/forms/doc/AD-755.pdf or may be obtained from the person listed under For Further Information Contact.

¹ To view the request for nominations, go to http://www.regulations.gov/#!docketDetail;D=APHIS-2012-0012.

The Secretary will select up to 20 members from across the agricultural community, including producers, processors, marketers, researchers, State and Tribal agricultural agencies, trade associations, and others, to obtain the broadest possible representation on the Committee, in accordance with the FACA and U.S. Department of Agriculture (USDA) Regulation 1041-1. Equal opportunity practices, in line with the USDA policies, will be followed in all appointments to the Committee. To ensure that the recommendations of the Committee have taken into account the needs of the diverse groups served by the Department, membership should include, to the extent practicable, individuals with demonstrated ability to represent minorities, women, and persons with disabilities.

Done in Washington, DC, this 16th day of August 2012.
Kevin Shea,
Acting Administrator, Animal and Plant Health Inspection Service.

[FR Doc. 2012-20517 Filed 8-20-12; 8:45 am]

BILLING CODE 3410-34-P